DEPARTMENT OF HOMELAND SECURITY

U.S. Customs and Border Protection

U.S. Customs and Border Protection Trade Symposium 2007: “Partnerships—Meeting the Challenges of Securing and Facilitating Trade”

AGENCY: Customs and Border Protection, Department of Homeland Security.

ACTION: Notice of Trade Symposium.

SUMMARY: This document announces that U.S. Customs and Border Protection (CBP) will convene its annual trade symposium, featuring panel discussions involving department personnel, members of the trade community and other government agencies, on the agency's role in international trade initiatives and programs. Members of the international trade and transportation communities and other interested parties are encouraged to attend.

DATES: Wednesday, November 14, 2007 (opening remarks and panel discussions (1 p.m. to 5:30 p.m.) and open forum with senior management (6 p.m.-8 p.m.)). Thursday, November 15, 2007 (panel discussions—8:15 a.m.-5 p.m.).

ADDRESSES: The Trade Symposium will be held at the Ronald Reagan Building and International Trade Center, 1300 Pennsylvania Avenue, N.W., Washington, DC. Upon entry into the building, photo identification must be presented to the security guards.

FOR FURTHER INFORMATION CONTACT: The Office of International Affairs and Trade Relations at (202) 344-1440, or at traderelations@dhs.gov. To obtain the latest information on the Symposium and to register on-line, visit the CBP Web site at http://www.cbp.gov. Requests for special needs should be sent to the Office of International Affairs and Trade Relations at traderelations@dhs.gov.

SUPPLEMENTARY INFORMATION: The keynote speaker will be announced at a later date. The cost is $250.00 per person, and includes all Symposium activities. Interested parties are requested to register early, as space is limited. Registration will open to the public on or about October 1, 2007. All registrations must be made on-line at the CBP Web site (http://www.cbp.gov) and will be confirmed with payment by credit card only.

Due to the overwhelming interest to attend the Symposium, each company is requested to limit their company's registrations to three participants, in order to afford equal representation from all members of the international trade community. If a company exceeds the limitation, subsequent registrations will automatically be placed on the waiting list. Consideration will be given, in a first come, first served order, based on space availability.

Hotel accommodations have been reserved at two hotels in downtown Washington, DC. The JW Marriott Hotel, 1331 Pennsylvania Avenue, NW., Washington, DC, has reserved a block of rooms for Wednesday through Thursday, November 14-15, 2007, at the rate of U.S. $279.00 per night. Reservations must be made directly with the hotel by October 15th at 1-800-228-9290 or 202-393-2000, referencing “CBP Trade Symposium,” or on-line at http://www.jwmarriottdc.com.

The Hotel Washington, 515 15th Street, NW., Washington, DC has a block of rooms for Wednesday through Thursday, November 14-15, 2007, at the rate of U.S. $229.00 per night. Reservations must be made directly with the hotel by October 15th, at 1-800-424-9540 or 202-638-5900, referencing “CBP Trade Symposium,” or on-line at http://www.hotelwashington.com, referencing group booking ID 40312.

Dated: September 26, 2007.
Michael C. Mullen,
Assistant Commissioner, Office of International Affairs and Trade Relations.

[FR Doc. E7-19299 Filed 9-28-07; 8:45 am]

BILLING CODE 9111-14-P